NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 25, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Office of Procurement and Property Management (N1-16-09-2, 1 item, 1 temporary item). Master files of an electronic information system used to administer improvement plans for lands managed by the agency that are affected by hazardous materials.

2. Department of Agriculture, Rural Development (N1-572-09-10, 1 item, 1 temporary item). Master files of an electronic information system used to manage budgets and track the distribution of funds for loan and grant programs.

3. Department of Agriculture, Rural Development (N1-572-09-11, 1 item, 1 temporary item). Master files of an electronic information system used to administer mail handling processes.

4. Department of Agriculture, Food and Nutrition Service (N1-462-09-5, 7 items, 7 temporary items). Correspondence files relating to applications for organizations to qualify for Supplemental Nutrition Assistance Program authorization.

5. Department of the Interior, Office of the Secretary (N1-48-10-1, 72 items, 51 temporary items). Low-level staff policy development and support files, congressional and litigation document production files, Regulatory Flexibility Act files, electronic tracking system and other records relating to cyber security, Quality of Government Information files, master files and claims files relating to firefighter and law enforcement officers' retirement benefits, master files and other records relating to real property appraisal services, and planning, budget, and other files regarding Year 2000 computer conversion activities. Proposed for permanent retention are policy development and support files of the Secretary, Deputy Secretary, Inspector General, and other high-level officials, public information releases and publications, Take Pride in America program records, newsletters and advisory board decisions regarding firefighter and law enforcement officers' retirement benefits, policy and guidance files regarding real property appraisal services, historically significant audiovisual recordings and photographs, and court order and report files including Indian Fiduciary Trust records.

6. Department of Justice, Office of the Inspector General (N1-60-10-28, 2 items, 2 temporary items). Master files and outputs of an electronic information system used to collect customer feedback from Inspector General units on the adequacy of administrative support provided by the Management and Planning Office.

7. Department of Justice, Federal Bureau of Investigation (N1-65-10-8, 7 items, 4 temporary items). Records of the Office of General Counsel pertaining to intelligence activities that might be appropriate for reporting to the President's Intelligence Oversight Board. Included are administrative files, canvas and response files regarding possible incidents, and tracking databases. Proposed for permanent retention are policy files, reports and adjudications, and correspondence with the Director of National Intelligence, President's Intelligence Oversight Board, and Department of Justice.

8. Department of Justice, Federal Bureau of Investigation (N1-65-10-22, 1 item, 1 temporary item). Case files relating to identifying missing and unidentified persons using the National DNA Index System.

9. Department of Justice, Federal Bureau of Investigation (N1-65-10-25, 3 items, 3 temporary items). Master files, outputs, and audit logs of an electronic information system use to track the dissemination of intelligence reports.

10. Department of Justice, Federal Bureau of Investigation (N1-65-10-29, 7 items, 7 temporary items). Language testing and assessment records, including master sets of tests, test development files, and master files and outputs of an electronic information system used to track information about individuals under assessment.

11. Department of Justice, Federal Bureau of Investigation (N1-65-10-32, 1 item, 1 temporary item). Transmittal forms requesting the creation of an index entry in the Electronic Surveillance Recordkeeping system.

12. Department of Justice, Federal Bureau of Investigation (N1-65-10-33, 2 items, 1 temporary item). Outputs of an electronic information system used to manage congressional and executive level correspondence. Proposed for permanent retention are master files containing the correspondence and related metadata.

13. Department of Labor, Office of the Assistant Secretary for Administration and Management (N1-174-09-5, 2 items, 2 temporary items). Master files of an electronic information system used by the agency to recruit employees.

14. Department of State, All Foreign Service Posts (N1-84-09-2, 21 items, 21 temporary items). Master files of electronic information systems used to issue or refuse immigrant and non-immigrant visas. Also included are paper copies of immigrant and non-immigrant visa application forms and case files of abandoned or withdrawn visa applications.

15. Department of State, Bureau of Public Affairs (N1-59-10-1, 19 items, 9 temporary items). Records of the Office of the Historian related to the publication of Foreign Relations of the United States, including compilations and copies of documents to be used in published volumes, master files of an electronic information system used to track information about documents in the publication, administrative records of the Advisory Committee on Historical Diplomatic Documentation, reference materials, office Web site content, and working files. Proposed for permanent retention are clearance files, published volumes of Foreign Relations of the United States, master files of electronic information systems containing information about officers of the Department and the history of diplomatic relations with foreign countries, original research and educational publications, program files of the Historian and the Advisory Committee on Historical Diplomatic Documentation, and diplomatic and consular card files.

16. Export-Import Bank of the United States, Agency-wide (N1-275-10-5, 3 items, 3 temporary items). Master files and outputs of an electronic information system used to aggregate and report data on agency financial products.

17. Office of the Director of National Intelligence, Office of the Deputy Director of National Intelligence for Analysis (N1-576-09-3, 28 items, 13 temporary items). Records include non-substantive working papers and drafts, lower-level working group and committee files, analyst telephone books and resources catalog, office copies of budget files, training materials, analytic metrics, routine briefings files, community support files, and other records of a routine or transitory nature associated with the analysis program. Proposed for permanent retention are outgoing correspondence, other program records, and appointment calendars of the Deputy Director, board and working group files, analytic mission program files, records associated with final national intelligence priorities, daily compendium of finished intelligence documents, outreach and presentation files, ombudsman final recommendation files, evaluations of intelligence products, analytic initiatives case files, analytic improvement guidance, major briefing materials, program records for analytic technology and transformation, and substantive working papers and drafts.

Dated: September 17, 2010.
Michael J. Kurtz,
Assistant Archivist for Records Services—Washington, DC.

[FR Doc. 2010-23806 Filed 9-22-10; 8:45 am]

BILLING CODE 7515-01-P